DEPARTMENT OF DEFENSE

Department of the Army; Corps of Engineers

Availability of the Draft Environmental Impact Statement for the Centralia Flood Reduction Project, Lewis County, WA

AGENCY: Department of the Army, U.S. Army Corps of Engineers, DoD.

ACTION: Notice of availability.

SUMMARY: Pursuant to section 102(2)(c) of the National Environmental Policy Act of 1969, as amended, the U.S. Army Corps of Engineers (USACE), Seattle District has prepared a Draft Environmental Impact Statement (DEIS) examining the impacts of feasible structural and nonstructural alternatives to reduce flood damage within Lewis County, WA.

The alternatives initially considered included: (1) No action; (2) modifications to Skookumchuck Dam; (3) overbank excavation and flow-way bypass at various locations; (4) construction of a flood levee system; (5) upstream flow-restriction structures and upstream flood-water storage; (6) non-structural flood control measures including watershed management, flood-proofing structures, developing evacuation plans, and removal of certain structures from the floodplain; and (7) a variety of flood control, regulatory, and planning measures developed by an interagency committee. After initial screening of the above alternatives for engineering feasibility, economic justification, environmental effects and other criteria, four were carried forward for detailed analysis: (1) Alternative #3 combined with alternative #2 (specifically Centralia overbank excavation and Chehalis SR6 flow-way bypass with modifications to Skookumchuck Dam); (2) alternative #4 combined with modifications to Skookumchuck Dam (preferred alternative); (3) alternative #7 combined with modifications to Skookumchuck Dam; and (4) no action.

DATES: The comment period for this DEIS is 45 days from the date of publication in the Federal Register or September 18, 2002, whichever is later.

ADDRESSES: Comments may be submitted to the attention of: Mr. George A. Hart, Environmental Coordinator, U.S. Army Corps of Engineers, P.O. Box 3755, Seattle, WA 98124-3755; Fax: (206) 764-4470, or e-mail george.a.hart@usace.army.mil.

FOR FURTHER INFORMATION CONTACT: Mr. George A. Hart at the above address, e-mail, or telephone (206) 764-3641.

SUPPLEMENTARY INFORMATION: The Chehalis River basin is located in west central Washington, south of Olympia. The focus of the flood damage reduction study encompasses the cities of Centralia and Chehalis and the urbanizing areas immediately adjacent to the cities.

The cities of Centralia and Chehalis have been subject to repeated flooding for many years. This flooding has caused extensive damage to private and public property and periodic closure of critical transportation routes resulting in significant economic losses. Flood closures of the transportation routes have also significantly disrupted emergency response actions by local governments. Stream habitat functions of the Chehalis River and its tributaries have been affected from long-term development throughout the Chehalis Basin. This has resulted in the diminishment of the remaining habitat resources to adequately support sustainable fish and wildlife resources. The losses of wetlands, riparian areas, and backwater channels have also contributed to increased flooding in the area. The purpose of the Centralia-Chehalis Flood Damage Reduction study are to reduce flood hazards in the project area, the cities of Centralia and Chehalis, and the urbanizing area immediately adjacent and to incorporate appropriate fish and wildlife habitat improvements. Flood hazards are defined as significant damage to existing structures, high risk to life, and extended closures of transportation corridors.

Authority for this study is contained in Section 401(a) of the 1986 Flood Control Act (Pub. L. 99-662). This section provided authorization for the construction of “works of improvement” substantially in accordance with the Report of the Chief of Engineers, dated June 20, 1984.

Request for copies of the Centralia Flood Reduction Project DEIS or other information regarding this environmental analysis should be addressed to Mr. Hart (see ADDRESSES). Copies of the DEIS are also available for public inspection and review at the following locations:

(1) U.S. Army Corps of Engineers, Federal Center South, 4735 Marginal Way, Seattle, WA 98124-2385.

(2) Chehalis Timberland Library, 76 N.E. Part Street, P.O. Box 419, Chehalis, WA 98532-0419; (360) 748-3301.

(3) Timberland Regional Library, 110 S. Silver, Centralia, WA 98531-4296; (360) 736-0183.

(4) Timberland Regional Library, 125 South Main Street, Montesano, WA 98563; (360) 249-4211.

(5) Internet at: http://www.nws.usace.army.mil/ers/doc_table.cfm.

A public hearing on the Centralia Flood Reduction Project DEIS will be held August 21, 2002 at the Lewis County Court House, Lewis County, WA starting at 6 p.m. USACE personnel will be present to answer questions. The hearings will provide an opportunity for information exchange and discussion between USACE and the public, as well as opportunities for the public to present oral or written comments.

Ralph H. Graves,
Colonel, Corps of Engineers, District Engineer.

[FR Doc. 02-19705 Filed 8-2-02; 8:45 am]

BILLING CODE 3710-ER-M